DEPARTMENT OF TRANSPORTATION

Federal Aviation Administration

14 CFR Part 39

[Docket No. FAA-2015-1281; Directorate Identifier 2014-NM-241-AD; Amendment 39-18346; AD 2015-25-08]

RIN 2120-AA64

Airworthiness Directives; The Boeing Company Airplanes

AGENCY: Federal Aviation Administration (FAA), DOT.

ACTION: Final rule; correction.

SUMMARY: The FAA is correcting an airworthiness directive (AD) that published in the Federal Register. That AD applies to all The Boeing Company Model 777 airplanes. Paragraph (i)(4) of the regulatory text contains a reference to a nonexistent paragraph. This document corrects that error. In all other respects, the original document remains the same.

DATES: This final rule is effective January 28, 2016.

The Director of the Federal Register approved the incorporation by reference of a certain publication listed in this AD as of January 28, 2016 (80 FR 80234, December 24, 2015).

ADDRESSES: For service information identified in this final rule, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2015-1281.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Eric Lin, Aerospace Engineer, Airframe Branch, ANM-120S, FAA, Seattle Aircraft Certification Office (ACO), 1601 Lind Avenue SW., Renton, WA 98057-3356; phone: 425-917-6412; fax: 425-917-6590; email: Eric.Lin@faa.gov.

SUPPLEMENTARY INFORMATION: Airworthiness Directive 2015-25-08, Amendment 39-18346 (80 FR 80234, December 24, 2015), currently requires repetitive inspections for any crack in the aft webs of the radial lap splices of the aft pressure bulkhead, and, if necessary, corrective actions, for all The Boeing Company Model 777 airplanes.

Need for the Correction

As published, paragraph (i)(4) of the regulatory text contains a reference to a nonexistent paragraph. Paragraph (i)(4) of the AD incorrectly references paragraph “(l)(4)(ii)”; however, the correct reference is paragraph “(i)(4)(ii).”

Related Service Information Under 1 CFR Part 51

We reviewed Boeing Alert Service Bulletin 777-53A0078, dated December 5, 2014. This service information describes procedures for inspections of the lap splices in the web of the aft pressure bulkhead for cracking, and corrective actions. This service information is reasonably available because the interested parties have access to it through their normal course of business or by the means identified in the ADDRESSES section.

Correction of Publication

This document corrects an error and correctly adds the AD as an amendment to section 39.13 of the Federal Aviation Regulations (14 CFR 39.13). Although no other part of the preamble or regulatory information has been corrected, we are publishing the entire rule in the Federal Register.

The effective date of this AD remains January 28, 2016.

Since this action only corrects a paragraph reference, it has no adverse economic impact and imposes no additional burden on any person. Therefore, we have determined that notice and public procedures are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by adding the following new airworthiness directive (AD):

2015-25-08 The Boeing Company: Amendment 39-18346; Docket No. FAA-2015-1281; Directorate Identifier 2014-NM-241-AD.

(a) Effective Date

This AD becomes effective on January 28, 2016.

(b) Affected ADs

None.

(c) Applicability

This AD applies to all The Boeing Company Model 777-200, -200LR, -300, -300ER, and 777F series airplanes, certificated in any category.

(d) Subject

Air Transport Association (ATA) of America Code 53, Fuselage.

(e) Unsafe Condition

This AD was prompted by an evaluation by the design approval holder indicating that the lap splices of the aft pressure bulkhead webs are subject to widespread fatigue damage on aging Model 777 airplanes that have accumulated at least 38,000 total flight cycles. We are issuing this AD to detect and correct fatigue cracking in the aft webs of the radial lap splices of the aft pressure bulkhead; such cracking could result in reduced structural integrity of the airplane, decompression of the cabin, and collapse of the floor structure.

(f) Compliance

Comply with this AD within the compliance times specified, unless already done.

(g) Inspection of Lap Splice in the Web of the Aft Pressure Bulkhead

Except as required by paragraph (h) of this AD: At the times specified in paragraph 1.E., “Compliance,” of Boeing Alert Service Bulletin 777-53A0078, dated December 5, 2014, do a medium frequency eddy current inspection for any cracking in the aft webs of the radial lap splices of the aft pressure bulkhead, in accordance with the Accomplishment Instructions of Boeing Alert Service Bulletin 777-53A0078, dated December 5, 2014. Repeat the inspection thereafter at intervals not to exceed 8,400 flight cycles from the previous inspection. If any crack is found during any inspection required by this AD, do the applicable corrective actions, in accordance with the Accomplishment Instructions of Boeing Alert Service Bulletin 777-53A0078, dated December 5, 2014. If a corrective action described in Boeing Alert Service Bulletin 777-53A0078, dated December 5, 2014, specifies to contact Boeing for appropriate action: Before further flight, repair using a method approved in accordance with the procedures specified in paragraph (i) of this AD.

(h) Exception to Service Information Specifications

Where Boeing Alert Service Bulletin 777-53A0078, dated December 5, 2014, specifies a compliance time “after the original issue date of this service bulletin,” this AD requires compliance within the specified compliance time after the effective date of this AD.

(i) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO, to make those findings. To be approved, the repair method, modification deviation, or alteration deviation must meet the certification basis of the airplane and the approval must specifically refer to this AD.

(4) For service information that contains steps that are labeled as Required for Compliance (RC), the provisions of paragraphs (i)(4)(i) and (i)(4)(ii) of this AD apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(j) Related Information

For more information about this AD, contact Eric Lin, Aerospace Engineer, Airframe Branch, ANM-120S, FAA, Seattle ACO, 1601 Lind Avenue SW., Renton, WA 98057-3356; phone: 425-917-6412; fax: 425-917-6590; email: Eric.Lin@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on January 28, 2016 (80 FR 80234, December 24, 2015).

(i) Boeing Alert Service Bulletin 777-53A0078, dated December 5, 2014.

(ii) Reserved.

(4) For service information identified in this AD, contact Boeing Commercial Airplanes, Attention: Data & Services Management, P. O. Box 3707, MC 2H-65, Seattle, WA 98124-2207; telephone 206-544-5000, extension 1; fax 206 766 5680; Internet https://www.myboeingfleet.com.

(5) You may view this service information at FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on January 19, 2016.
Michael Kaszycki,
Acting Manager, Transport Airplane Directorate, Aircraft Certification Service.

[FR Doc. 2016-01441 Filed 1-25-16; 8:45 am]

BILLING CODE 4910-13-P